DEPARTMENT OF HEALTH AND HUMAN SERVICES

National Institutes of Health

Center for Scientific Review; Amended Notice of Meeting

Notice is hereby given of a change in the meeting of the Center for Scientific Review Special Emphasis Panel, Member Conflict: Molecular & Cellular Neurobiology, August 4, 2020, 1:00 p.m. to 05:00 p.m., National Institutes of Health, Rockledge II, 6701 Rockledge Drive, Bethesda, MD 20892, which was published in the Federal Register on July 10, 2020, 85 FR 41607.

This notice is being amended to change the meeting date from August 4, 2020 to August 10, 2020 and meeting time from 1:00 p.m. to 5:00 p.m. to 11:00 a.m. to 5:00 p.m. The meeting is closed to the public.

Dated: July 20, 2020.
Miguelina Perez,
Program Analyst, Office of Federal Advisory Committee Policy.

[FR Doc. 2020-16023 Filed 7-23-20; 8:45 am]

BILLING CODE 4140-01-P